ENVIRONMENTAL PROTECTION AGENCY

40 CFR Part 300

[FRL-7500-6]

National Oil and Hazardous Substance Pollution Contingency Plan; National Priorities List

AGENCY: Environmental Protection Agency.

ACTION: Direct final notice of deletion of the Petrochem Recycling Corp./Ekotek, Inc., Superfund Site from the National Priorities List.

SUMMARY: The Environmental Protection Agency (EPA) Region 8 is publishing a Direct final Notice of Deletion of the Petrochem Recycling Corp./Ekotek, Inc., Superfund Site (Site), located in Salt Lake City, Utah, from the National Priorities List (NPL).

The NPL, promulgated pursuant to Section 105 of the Comprehensive Environmental Response, Compensation, and Liability Act (CERCLA) of 1980, as amended, is Appendix B to 40 CFR Part 300, the National Oil and Hazardous Substances Pollution Contingency Plan (NCP). This direct final deletion is being published by EPA with the concurrence of the State of Utah, through the Utah Department of Environmental Quality (UDEQ), based on EPA's determination that all appropriate response actions under CERCLA have been completed at the Site and, therefore, further remedial action pursuant to CERCLA is not appropriate.

DATES: This direct final deletion will be effective June 30, 2003, unless EPA receives adverse comments by June 23, 2003. If EPA receives significant adverse comment(s), EPA will withdraw the Direct Final Notice of Deletion and it will not take effect. EPA will, as appropriate, address all public comments in a subsequent final deletion notice based on this Notice.

ADDRESSES: Comments should be mailed to: Armando Saenz, Remedial Project Manager (RPM), Mail Code: 8EPR-SR, U.S. EPA Region 8, 999 18th Street, Suite 300, Denver, Colorado, 80202-2466.

Information Repository: Comprehensive information is available for viewing and copying at the information repository for the Site located at: U.S. EPA Region 8 Superfund Records Center, 999 18th Street, Fifth Floor, Denver, Colorado 80202-2466, Monday through Friday, 8:00 a.m.-4:30 p.m.

FOR FURTHER INFORMATION CONTACT: Armando Saenz, 303-312-6559, Remedial Project Manager (RPM), Mail Code: 8EPR-SR, U.S. EPA Region 8, 999 18th Street, Suite 300, Denver, Colorado 80202-2466.

SUPPLEMENTARY INFORMATION:

Table of Contents

I. Introduction

II. NPL Deletion Criteria

III. Deletion Procedures

IV. Basis for Site Deletion

V. Deletion Action

I. Introduction

EPA Region 8 is publishing this Direct Final Notice of Deletion of the Petrochem Recycling Corp./Ekotek, Inc., Superfund Site from the NPL.

The EPA identifies sites that appear to present a significant risk to public health or the environment and maintains the NPL as the list of those sites. As described in 40 CFR 300.425(e)(3) of the NCP, sites deleted from the NPL remain eligible for remedial actions if conditions at a deleted site warrant such action, pursuant to EPA's authority under CERCLA and the NCP.

Because EPA considers this action to be noncontroversial, this action is being taken without prior publication of a notice of intent to delete. This action will be effective June 30, 2003 unless EPA receives adverse comments by June 23, 2003 on this document. If adverse comments are received within the 30-day public comment period on this document, EPA will publish a timely withdrawal of this direct final deletion before the effective date of the deletion and the deletion will not take effect. EPA will, as appropriate, prepare a response to comments and continue with the deletion process on the basis of this Notice and the comments already received. There will be no additional opportunity to comment on this deletion process.

Section II of this document explains the criteria for deleting sites from the NPL. Section III discusses procedures that EPA is using for this action. Section IV discusses the Petrochem Recycling Corp./Ekotek, Inc., Superfund Site and demonstrates how it meets the deletion criteria. Section V discusses EPA's action to delete the Site from the NPL unless adverse comments are received during the public comment period.

II. NPL Deletion Criteria

Section 300.425(e) of the NCP provides that sites may be deleted from the NPL where no further response is appropriate. In making a determination to delete a site from the NPL, EPA shall consider, in consultation with the State, whether any of the following criteria have been met:

i. Responsible parties or other persons have implemented all appropriate response actions required;

ii. All appropriate Fund-financed (Hazardous Substance Superfund Response Trust Fund) response under CERCLA has been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c), requires that a subsequent review of the site be conducted at least every five years after the initiation of the remedial action at the deleted site to ensure that the action remains protective of public health and the environment. If new information becomes available which indicates a need for further action, EPA may initiate or order remedial actions. Whenever there is a significant release from a site deleted from the NPL, the deleted site may be restored to the NPL without application of the hazard ranking system.

III. Deletion Procedures

The following procedures apply to deletion of the Site:

(1) The EPA, lead agency for the Site, consulted with Utah on the deletion of the Site from the NPL prior to developing this direct final notice of deletion.

(2) Utah concurred with deletion of the Site from the NPL.

(3) Concurrent with the publication of this Direct Final Notice of Deletion, a notice of the availability of the parallel Notice of Intent to Delete was published today in the “Proposed Rules” section of the Federal Register, is being published in a major local newspaper of general circulation at or near the Site and is being distributed to appropriate federal, state and local government officials and other interested parties; the newspaper notice announces the 30-day public comment period concerning the Notice of Intent to Delete the Site from the NPL.

(4) The EPA placed copies of documents supporting the deletion in the Site information repository identified above.

(5) If adverse comments are received within the 30-day public comment period on this notice, EPA will publish a timely notice of withdrawal of this Direct Final Notice of Deletion before its effective date and will prepare a response to comments and continue with the deletion process on the basis of the notice of intent to delete and the comments already received.

Deletion of a site from the NPL does not itself create, alter or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Location & History

The Site is located in Township 1 North, Range 1 West, Section 23, and occupies approximately seven acres in an industrial corridor in the northern section of Salt Lake City, Utah. The Site was originally owned and operated as an oil refinery by O. C. Allen Oil Company, from 1953 to 1968. In 1968, Flinco, Inc., purchased the facility and operated the refinery until 1978. During that time Flinco changed its name to Bonus International Corp. In 1978, Axel Johnson, Inc., acquired the facility and operated it through its Delaware-based subsidiary, Ekotek, Inc. At that time, Ekotek, Inc., converted the Site into a hazardous waste storage and treatment and petroleum recycling facility. In 1981, the Site was reincorporated as Ekotek Incorporated, a Utah corporation.

From 1980 to 1987, the facility operated under Resource Conservation and Recovery Act (RCRA) Interim Status, and received a hazardous waste storage permit, issued by UDEQ, in July 1987 for a limited number of activities. Ekotek, Inc., declared bankruptcy in November of 1987. Petrochem Recycling Corp. leased the facility in 1987 from Ekotek, Inc., and continued operations until February 1988.

Site operations were shut down in February 1988 after the issuance to Petrochem Recycling Corp. of a Notice of Violation by the Utah Bureau of Solid and Hazardous Waste and the Bureau of Air Quality. In November 1988, Region 8 EPA Emergency Response Branch initiated an emergency surface removal action at the Site.

On August 2, 1989, an Administrative Order on Consent (AOC) for Emergency Surface Removal (Docket CERCLA-VIII-89-25) was issued to 27 Potentially Responsible Parties (PRPs) to undertake actions to clean up the Site. These PRPs operated as members of a voluntary association termed the ESRC (Ekotek Site Remediation Committee.) As part of the emergency surface removal action, the ESRC removed surface and underground storage tanks, containers, contaminated sludges, pooled liquids and processing equipment from the Site.

In November 1989, EPA began site assessment field operations. The Site was proposed for listing on the National Priorities List (NPL) on July 29, 1991. The Site was listed on the NPL on October 14, 1992. Only one operable unit was designated for the Site.

Remedial Investigation and Feasability Study (RI/FS)

An Administrative Order on Consent (AOC) for the performance of the Remedial Investigation/Feasibility Study (RI/FS) was signed in July 1992 (Docket No. CERCLA (106) VIII-92-21). Members of the ESRC were Respondents for the RI/FS AOC. The Phase I field investigation was undertaken from December 1992 to March 1993 and Phase II investigations were conducted from August to October 1993. A final RI report was issued in July 1994 and the final FS report was issued in January 1995. Two addenda to the FS were submitted on February 24, 1995 and April 7, 1995. EPA published the notice of completion for the FS and the Proposed Plan for remedial action on July 19, 1995.

The results of the remedial investigation indicated that surface soils on the property contained petroleum hydrocarbon contaminants, including semivolatile organic compounds (SVOCs) and polychlorinated biphenyls (PCBs). Contaminated soil extended to the water table in the vicinity of the former tank farm/processing area where a plume of light non-aqueous phase liquids (LNAPL) was present. Groundwater analytical results collected during the RI indicated that vinyl chloride, cis-1,2-DCE, benzene, and arsenic were present at concentrations above their maximum contaminant levels (MCLs). The feasibility study was completed in January 1995 and included development and evaluation of ten site-wide remedial alternatives. The alternatives consisted of various combinations of technologies for soil and groundwater remediation, including soil excavation and disposal or treatment, containment, LNAPL removal, groundwater extraction and disposal, and intrinsic groundwater remediation.

Record of Decision (ROD) and Explanations of Significant Differences (ESDs)

EPA's remedy decision was embodied in a final ROD signed on September 27, 1996. The components of the selected remedy included:

• Removal/Disposal of Hot Spot Soils

• Consolidation/Capping of Soils that Exceed Soil Performance Standards

• Partial Removal/Disposal of Soil and Buried Debris and Cap Remaining Debris

• Removal/Treatment of 100% of the LNAPL

• Natural Attenuation/Intrinsic Remediation of Ground Water

• Access and Land Use Restrictions for the Site

An ESD was issued on December 9, 1997, by EPA to modify certain remediation criteria established in the 1996 Record of Decision. The significant differences addressed in the ESD were: corrected and revised soil performance standard values for 2,3,7,8,-TCDD(TEF) and PCBs; revised soil hot spot performance standard value for PCBs; and an alternative to permit discharge of water to re-injection wells or to a surface water/storm drain via the substantive requirements of a UPDES permit.

A second ESD was issued on May 11, 1999, by EPA. The second ESD modified two aspects of the 1996 Record of Decision; first it deleted manganese as a designated contaminant of concern in the ground water, and second it increased the volume of contaminated soil destined for off-site disposal.

Changes to the original remedy due to the two ESDs resulted in the following remedy:

• Removal/Disposal of soils exceeding hot spot and soil performance standards

• Removal/Incineration of floating LNAPL down to 0.02 feet thickness

• Natural Attenuation/Intrinsic Remediation of groundwater

• Backfilling excavations with clean soil and regrading/restoration of Site

Response Actions

Removal Action. An Administrative Order on Consent for Removal Action was issued on December 22, 1997 (Docket No. CERCLA (106) VIII-98-05) for the performance of Drum and Sludge Removal. Members of the ESRC were Respondents for the Administrative Order on Consent for Removal Action. The actions under this AOC were completed prior to the Remedial Design and Remedial Action (RD/RA) Consent Decree in order to expedite and facilitate the remedial action. The actions completed under the Drum and Sludge Removal included the following: the characterization of drummed waste and filter cake sludge, the disposal of approximately 230 drums and the associated waste at a permitted RCRA facility and the disposal of approximately 450 cubic yards of filter cake sludge at a permitted RCRA facility. A final Drum and Sludge Removal Completion Report was issued in December 1998.

Remedial Actions. EPA and the ESRC representatives negotiated an agreement to implement the remedy selected in the ROD. This agreement, in the form of a consent decree for remedial design and remedial action (RD/RA Consent Decree), was lodged on March 4, 1998, and entered on April 27, 1998, in the U.S. District Court for Utah.

Remedial actions were conducted in four stages:

• Stage 1: Building Demolition

• Stage 2: Site Demolition, Hot Spot and Removal of Buried Debris

• Stage 3: Soil Excavation and Disposal and LNAPL Excavation and Incineration

• Stage 4: Groundwater Studies

All remedial actions were conducted in accordance with the ROD, ESDs, Remedial Design (May 1999) and Consent Decree. Groundwater studies supported the choice of monitored natural attenuation/intrinsic remediation for the groundwater component of the remedy. Confirmatory sampling verified that the Site achieved the ROD cleanup objectives for soil and groundwater and that all cleanup actions specified in the ROD and ESDs had been implemented.

Operation & Maintenance (O&M)

Disposal of hazardous materials, identified in the ROD and ESDs, to a permitted off-site disposal facility and the achievement of the groundwater remediation levels has eliminated the need for O&M at the Site.

Five-Year Review

Pursuant to CERCLA section 121(c), 42 U.S.C. 9621(c), five-year reviews are required at sites with remaining hazardous substances, pollutants, or contaminants above levels that allow for unlimited use and unrestricted exposure. Hazardous substances above health-based levels were removed from the Site, eliminating the five-year review requirement.

Community Involvement

The impacted community, near the Site, has been represented by the Capital Hill Neighborhood Council (Council). The Council was funded by a Technical Assistance Grant from EPA. Mr. Paul Anderson acted as the Council's advisor and actively participated as a stakeholder during the planning and cleanup of the Site. Community relation activities included public meetings, site tours and fact sheets.

Public participation activities have been satisfied as required in CERCLA section 113(k), 42 U.S.C. 9613(k), and CERCLA section 117, 42 U.S.C. 9617. Documents in the deletion docket, which EPA relied on for recommendation of the deletion from the NPL, are available to the public in the information repository.

V. Deletion Action

The EPA, with concurrence from the State of Utah through UDEQ, has determined that all appropriate responses under CERCLA have been completed, and that no further response actions, under CERCLA are necessary. Therefore, EPA is taking this action to delete the Site from the NPL.

Because EPA considers this action to be noncontroversial, this action is being taken without prior publication of a notice of intent to delete. This action will be effective June 30, 2003, unless EPA receives adverse comments by June 23, 2003. If adverse comments are received within the 30-day public comment period on this document, EPA will publish a timely withdrawal of this direct final deletion before the effective date of the deletion and the deletion will not take effect. EPA will, as appropriate, prepare a response to comments and continue with the deletion process on the basis of the notice of intent to delete and the comments already received. There will be no additional opportunity to comment on this deletion process.

List of Subjects in 40 CFR Part 300

Environmental protection, Air pollution control, Chemicals, Hazardous waste, Hazardous substances, Intergovernmental relations, Penalties, Reporting and recordkeeping requirements, Superfund, Water pollution, Water supply.

Dated: May 2, 2003.
Robert E. Roberts,
Regional Administrator, Region 8.

For the reasons set out in this document, 40 CFR Part 300 is amended as follows:

PART 300—[AMENDED]

1. The authority citation for Part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to Part 300 is amended under “Utah” by removing the entry for “Petrochem Recycling Corp./Ekotek, Plant”.

[FR Doc. 03-12614 Filed 5-21-03; 8:45 am]

BILLING CODE 6560-50-P